DEPARTMENT OF AGRICULTURE

Submission for OMB Review; Comment Request

February 19, 2015

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by March 27, 2015 will be considered. Written comments should be addressed to: Desk Officer for Agriculture, Office of Information and Regulatory Affairs, Office of Management and Budget (OMB), New Executive Office Building, 725—17th Street, NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Importation of Poultry Meat and Other Poultry Products from Sinaloa and Sonora, Mexico

OMB Control Number: 0579-0144.

Summary of Collection: The Animal Health Protection Act of 2002 (Title X, Subtitle E, Sec. 10401-18 of Pub. L. 107-171) is the primary Federal law governing the protection of animal health. Disease prevention is the most effective method for maintaining a healthy animal population and for enhancing the U.S. Department of Agriculture's Animal and Plant Health Inspection Service (APHIS), Veterinary Services' ability to allow United States animal producers to compete in the world market of animal and animal product trade APHIS currently has regulations in place that restrict the importation of poultry meat and other poultry products from Mexico due to the presence of Newcastle Disease (ND) in that country. However, APHIS allows the importation of poultry meat and poultry products from the Mexican States of Sinaloa and Sonora because APHIS has determined that poultry meat and products from these two Mexican States pose a negligible risk of introducing ND into the United States. To ensure that these items are safe for importation, APHIS requires that certain data appear on the foreign meat inspection certificate that accompanies the poultry meat and other poultry products from Sinaloa and Sonora to the United States. APHIS also requires that serial numbered seals be applied to containers carrying the poultry meat and other poultry products.

Need and Use of the Information: APHIS will collect information to certify that the poultry meat or other poultry products were (1) derived from poultry born and raised in commercial breeding establishments in Sinaloa and Sonora; (2) derived from poultry that were slaughtered in Sinaloa or Sonora in a Federally-inspected slaughter plant approved to export these commodities to the United States in accordance with Food Safety & Inspection regulations; (3) processed at a Federally inspected processing plant in Sinaloa or Sonora; and (4) kept out of contact with poultry from any other State within Mexico. APHIS will also collect information to ensure that the poultry meat or poultry products from Sinaloa and Sonora pose the most negligible risk possible for introducing ND into the United States.

Description of Respondents: Business or other for-profit; Federal Government.

Number of Respondents: 386.

Frequency of Responses: Reporting: On occasion.

Total Burden Hours: 386.

Animal and Plant Health Inspection Service

Title: Importation of Fresh Pitaya Fruit from Central America into the Continental United States.

OMB Control Number: 0579-0378.

Summary of Collection: Under the Plant Protection Act (7 U.S.C. 7701-7772), the Secretary of Agriculture is authorized to carry out operations or measures to detect, eradicate, suppress, control, prevent, or retard the spread of plant pests new to the United States or not known to be widely distributed throughout the United States. The regulations “Subpart-Fruit and Vegetables” (7 CFR 319.56-1 through 319 56-71), prohibit or restrict the importation of fruits and vegetables into the United States from certain parts of the world to prevent the introduction and dissemination of plant pests that are not widely distributed within the United States. The Animal and Plant Health Inspection Service (APHIS) allows the importation of fresh pitaya fruit from Central America into the continental United States.

Need and Use of the Information: The Animal and Plant Health Inspection Service uses the following activities to collect information: Production Site Certification, Review and Maintain Documents, Registration of Packinghouses, Bilateral Workplan, Records of Fruit Fly Detections and Update Records, Shipping Documents Identifying the Places of Production, Phytosanitary Certificate with Additional Declaration, Production Site Registration, and Box Markings. If the information is not collected, APHIS' ability to protect the United States from exotic insect pest would be severely compromised.

Description of Respondents: Business or other for-profit; Federal Government.

Number of Respondents: 97.

Frequency of Responses: Reporting: On occasion.

Total Burden Hours: 287.

Ruth Brown,
Departmental Information Collection Clearance Officer.

[FR Doc. 2015-03912 Filed 2-24-15; 8:45 am]

BILLING CODE 3410-34-P